CONSUMER PRODUCT SAFETY COMMISSION

Sunshine Act Meetings

TIME AND DATE:

Wednesday, October 12, 2022-10:00 a.m.

Wednesday, October 12, 2022-2:00 p.m. (See MATTERS TO BE CONSIDERED for individual briefing matter.)

PLACE: These meetings will be held remotely. (See MATTERS TO BE CONSIDERED.)

STATUS: Commission Meetings—Open to the Public.

MATTERS TO BE CONSIDERED: Briefing Matters:

Wednesday, October 12, 2022-10:00 a.m.

FY 2023 Operating Plan

All attendees should pre-register for the Commission meeting using the following link: https://cpsc.webex.com/cpsc/onstage/g.php?MTID=ea3225a1b309cd09bb1b61571db6bbb7d.

After registering you will receive a confirmation email containing information about joining the meeting.

Wednesday, October 12, 2022-2:00 p.m.

Final Rule: Safety Standard for Clothing Storage Units

All attendees should pre-register for the Commission meeting using the following link: https://cpsc.webex.com/cpsc/onstage/g.php?MTID=e8719b45725fcde354870a4e3d7f21406.

After registering you will receive a confirmation email containing information about joining the meeting.

CONTACT PERSON FOR MORE INFORMATION: Alberta E. Mills, Office of the Secretary, U.S. Consumer Product Safety Commission, 4330 East-West Highway, Bethesda, MD 20814, 301-504-7479 (Office) or 240-863-8938 (Cell).

Dated: October 5, 2022.
Alberta E. Mills,
Commission Secretary.

[FR Doc. 2022-22029 Filed 10-6-22; 4:15 pm]

BILLING CODE P